DEPARTMENT OF ENERGY

Federal Energy Regulatory Commission

Combined Notice of Filings #1

March 15, 2006.

Take notice that the Commission received the following electric rate filings.

Docket Numbers: ER96-1551-014; ER01-615-010; EL05-2-000.

Applicants: Public Service Company of New Mexico.

Description: Public Service Co of New Mexico submits an amendment to its July 15, 2005 compliance filing and requests FERC to consider the information submitted as further evidence that PNM lacks generation market power etc.

Filed Date: March 10, 2006.

Accession Number: 20060314-0015.

Comment Date: 5 p.m. Eastern Time on Friday, March 31, 2006.

Docket Numbers: ER03-447-004.

Applicants: Black Oak Energy, LLC.

Description: Black Oak Energy LLC submits an amendment to its triennial updated market analysis filed on February 13, 2006.

Filed Date: March 9, 2006.

Accession Number: 20060310-0182.

Comment Date: 5 p.m. Eastern Time on Thursday, March 30, 2006.

Docket Numbers: ER06-464-001.

Applicants: Highlands Energy Group LLC.

Description: Highlands Energy Group LLC submits a petition for acceptance of initial rate schedule, waivers and blanket authority. Highland also amended its filing on March 10, 2006, including a revised tariff per the Commission's request.

Filed Date: March 8, 2006.

Accession Number: 20060313-0130.

Comment Date: 5 p.m. Eastern Time on Wednesday, March 29, 2006.

Docket Numbers: ER06-710-000.

Applicants: New York Independent System Operator, Inc.

Description: New York Independent System Operator, Inc submits revisions to its open access transmission tariff & market administration and control area services tariff to allow three additional forms of credit support etc.

Filed Date: March 8, 2006.

Accession Number: 20060315-0019.

Comment Date: 5 p.m. Eastern Time on Wednesday, March 29, 2006.

Docket Numbers: ER06-711-000.

Applicants: Hunlock Creek Energy Ventures.

Description: Hunlock Creek Energy Ventures submits a Notice of Cancellation of its market-based rate tariff, currently designated as FERC Electric Tariff, Original Volume 1.

Filed Date: March 9, 2006.

Accession Number: 20060315-0018.

Comment Date: 5 p.m. Eastern Time on Thursday, March 30, 2006.

Docket Numbers: ER06-712-000.

Applicants: Allegheny Energy Supply Hunlock Creek, LLC.

Description: Allegheny Energy Supply Hunlock Creek, LLC submits its notice of cancellation of its market-based rate tariff, designated as FERC Electric Tariff, Original Volume 1, to be effective March 1, 2006.

Filed Date: March 9, 2006.

Accession Number: 20060315-0017.

Comment Date: 5 p.m. Eastern Time on Thursday, March 30, 2006.

Docket Numbers: ER06-713-000.

Applicants: Weyerhaeuser Company.

Description: Weyerhaeuser Co submits its petition for market-based rate authority, acceptance of initial rate schedule, waivers and blanket authority, Rate Schedule No. 1.

Filed Date: March 9, 2006.

Accession Number: 20060315-0016.

Comment Date: 5 p.m. Eastern Time on Thursday, March 30, 2006.

Docket Numbers: ER06-715-000.

Applicants: Community Energy, Inc.

Description: Community Energy, Inc submits a Notice of Cancellation of its Rate Schedule 1.

Filed Date: March 10, 2006.

Accession Number: 20060315-0008.

Comment Date: 5 p.m. Eastern Time on Friday, March 31, 2006.

Docket Numbers: ER06-718-000.

Applicants: Central Hudson Gas & Electric Corporation.

Description: Central Hudson Gas & Electric Corp submits an executed interconnection agreement with the City of New York respecting the continued interconnection of the Neversink Generating Station to its transmission system.

Filed Date: March 10, 2006.

Accession Number: 20060315-0003.

Comment Date: 5 p.m. Eastern Time on Friday, March 31, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-4136 Filed 3-21-06; 8:45 am]

BILLING CODE 6717-01-P